DEPARTMENT OF AGRICULTURE

Animal and Plant Health Inspection Service

[Docket No. APHIS-2007-0070]

Interstate Movement of Municipal Solid Waste From Hawaii; Availability of an Environmental Assessment and Finding of No Significant Impact

AGENCY: Animal and Plant Health Inspection Service, USDA.

ACTION: Notice.

SUMMARY: We are advising the public that the Animal and Plant Health Inspection Service has prepared a regional programmatic environmental assessment and finding of no significant impact relative to the interstate movement of municipal solid waste from Hawaii to landfills in the States of Idaho, Oregon, and Washington. The environmental assessment contains a general assessment of the potential environmental effects associated with moving garbage interstate from Hawaii to Idaho, Oregon, and Washington subject to certain pest risk mitigation measures and documents our review and analysis of the environmental impacts associated with, and alternatives to, such movements. Based on its finding of no significant impact, the Animal and Plant Health Inspection Service has determined that an environmental impact statement need not be prepared.

FOR FURTHER INFORMATION CONTACT: Ms. Shannon Hamm, Acting Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 in order to protect against the introduction into and dissemination within the United States of plant and animal pests and diseases.

On March 13, 2008, we published in the Federal Register (73 FR 13525, Docket No. APHIS-2007-0070) a notice ¹ in which we announced the availability, for public review and comment, of a regional programmatic environmental assessment relative to the interstate movement of municipal solid waste from Hawaii to landfills in the States of Idaho, Oregon, and Washington.

¹ To view the notice and the comments we received, go to http://www.regulations.gov/fdmspublic/component/main?main=DocketDetail&d=APHIS-2007-0070.

The environmental assessment, titled “Regional Movement of Plastic-baled Municipal Solid Waste from Hawaii to Washington, Oregon, and Idaho” (February 2008), considers the movement of a cumulative maximum amount of baled municipal solid waste from the State of Hawaii to any qualified landfill in Washington, Oregon, or Idaho under compliance agreements with APHIS and in accordance with the standards previously established by APHIS regarding baling, handling, spill response, and disposal.

We solicited comments on the regional programmatic environmental assessment for 30 days ending on April 14, 2008. We received three comments by that date, from the State of Idaho, a private citizen, and a law office. All of the commenters raised specific issues regarding the environmental assessment. In an attachment to the finding of no significant impact determination, we respond to each of the issues raised by the commenters.

Based on the information contained in the regional programmatic environmental assessment and following our consideration of the information submitted during the comment period, we have determined that implementation of either alternative examined in the environmental assessment—i.e., the barging of municipal solid waste from Hawaii to landfills within the States of Oregon, Washington, and Idaho under compliance agreements with APHIS or taking no action (no interstate movement of municipal solid waste from Hawaii)—is not expected to result in a significant impact to the human environment, and an environmental impact statement does not need to be prepared.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 12th day of June 2008.
Kevin Shea,
Acting Administrator, Animal and Plant Health Inspection Service.

[FR Doc. E8-13735 Filed 6-17-08; 8:45 am]

BILLING CODE 3410-34-P